DEPARTMENT OF THE INTERIOR

National Park Service

[2253-665]

Notice of Inventory Completion: California Department of Parks and Recreation, Sacramento, CA

AGENCY: National Park Service, Interior.

ACTION: Notice.

SUMMARY: The California Department of Parks and Recreation has completed an inventory of human remains and associated funerary objects, in consultation with the appropriate Indian tribes, and has determined that there is a cultural affiliation between the human remains and associated funerary objects and present-day Indian tribes. Representatives of any Indian tribe that believes itself to be culturally affiliated with the human remains and associated funerary objects may contact the California Department of Parks and Recreation. Repatriation of the human remains and associated funerary objects to the Indian tribes stated below may occur if no additional claimants come forward.

DATES: Representatives of any Indian tribe that believes it has a cultural affiliation with the human remains and associated funerary objects should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3003, of the completion of an inventory of human remains and associated funerary objects under the control of the California Department of Parks and Recreation. The human remains and associated funerary objects were removed from ten sites located in northeastern San Diego County, CA.

This notice is published as part of the National Park Service's administrative responsibilities under NAGPRA, 25 U.S.C. 3003(d)(3). The determinations in this notice are the sole responsibility of the museum, institution or Federal agency that has control of the Native American human remains and associated funerary objects. The National Park Service is not responsible for the determinations in this notice.

Consultation

A detailed assessment of the human remains and associated funerary objects was made by the California Department of Parks and Recreation professional staff in consultation with representatives of the Agua Caliente Band of Cahuilla Indians of the Agua Caliente Indian Reservation, California; Augustine Band of Cahuilla Indians, California (formerly the Augustine Band of Cahuilla Mission Indians of the Augustine Reservation); Cabazon Band of Mission Indians, California; Cahuilla Band of Mission Indians of the Cahuilla Reservation, California; Los Coyotes Band of Cahuilla and Cupeno Indians, California (formerly the Los Coyotes Band of Cahuilla & Cupeno Indians of the Los Coyotes Reservation); Morongo Band of Mission Indians, California (formerly the Morongo Band of Cahuilla Mission Indians of the Morongo Reservation); Ramona Band of Cahuilla, California (formerly the Ramona Band or Village of Cahuilla Mission Indians of California); Santa Rosa Band of Cahuilla Indians, California (formerly the Santa Rosa Band of Cahuilla Mission Indians of the Santa Rosa Reservation); and Torres-Martinez Desert Cahuilla Indians, California (formerly the Torres-Martinez Band of Cahuilla Mission Indians of California) (hereafter referred to as “The Tribes”).

History and Description of the Remains

The human remains and associated funerary objects listed in this notice were removed from ten sites located in northeastern San Diego County, CA. The geographical location of these ten sites indicates the human remains were recovered within the historically documented territory of the Cahuilla. The traditional aboriginal territory of the Cahuilla, as defined by anthropologist Lowell John Bean, encompasses a geographically diverse area of mountains, valleys and low desert zones. The southernmost boundary approximately followed a line from just below Borrego Springs to the north end of the Salton Basin and the Chocolate Mountains. The eastern boundary ran along the summit of the San Bernardino Mountains. The northern boundary stood within the San Jacinto Plain near Riverside, while the base of Palomar Mountain formed the western boundary. According to Bean and archeologist William D. Strong, the northern end of Anza Borrego Desert State Park lies within the traditional territory of the Cahuilla and includes the areas of Borrego Palm Canyon, Coyote Canyon, Clark Valley, the Santa Rosa Mountains, Jackass Flat, Rockhouse Canyon and Horse Canyon.

In April of 1972, human remains representing, at minimum, two individuals were removed from site CA-SDI-343 (Santa Caterina/Lower Willows) in the Coyote Canyon area of Anza Borrego Desert State Park by Professor Paul Ezell and archeology students from San Diego State University. No known individuals were identified. No associated funerary objects are present. The age of the human remains is unknown.

At an unknown date in the 1970s, a cremated human bone representing, at minimum, one individual was removed from site CA-SDI-489 (Ocotillo Flats) in the Coyote Canyon area of Anza Borrego Desert State Park by archeologist William Seidel during a survey of the area. No known individual was identified. No associated funerary objects are present. The age of the human remains is unknown.

At an unknown date in the 1970s, a cremated human bone representing, at minimum, one individual was removed from site CA-SDI-1116 in the Coyote Canyon area of Anza Borrego Desert State Park by archeologist William Seidel during a survey of the area. No known individual was identified. No associated funerary objects are present. The age of the human remains is unknown.

In 1955, human remains representing, at minimum, three individuals were removed from site CA-SDI-1465 (Hidden Springs) in the Borrego Palm Canyon and Jackass Flats areas of Anza Borrego Desert State Park. No known individuals were identified. The 40 associated funerary objects are 1 quartzite flake; 8 potsherds of undetermined ware; 6 buffware potsherds; 11 potsherds in pieces; 1 flake of obsidian shatter; 1 obsidian finishing/resharpening flake (source determined to be Obsidian Butte); 2 obsidian finishing/resharpening flakes; 1 quartz flake; 1 charred Agavaceae seed; 1 green fused shale biface tip; 1 burnt wonderstone flake; 2 burned worked faunal bone fragments; l lot of faunal bone fragments; 1 lot of unidentified faunal bone fragments; 1 burnt Olivella dama shell bead; and 1 burnt shell disk bead (possibly an Olivella callus or clam shell disk bead). The age of the human remains and associated funerary objects is unknown.

At an unknown date in the 1970s, human cranial bone fragments representing, at minimum, one individual were removed from site CA-SDI-2366 (Carlburg) located near Clark Dry Lake in Anza Borrego Desert State Park by archeologist William Seidel. No known individual was identified. No associated funerary objects are present. The age of the human remains is unknown.

At an unknown date in the 1990s, a cremated human bone representing, at minimum, one individual was removed from the surface of site CA-SDI-16494 (Horse Camp) in the Coyote Canyon area of Anza Borrego Desert State Park by California State Parks Archaeologist Rae Schwaderer. No known individual was identified. No associated funerary objects are present. The age of the human remains is unknown.

At an unknown date in the 1970s, human bone fragments representing, at minimum, two individuals were removed from an unidentified site located south of the elementary school in Borrego Springs, CA by archeologist William Seidel. No known individual was identified. No associated funerary objects are present. The age of the human remains is unknown.

At an unknown date in the late 1950s or early 1960s, a human bone representing, at minimum, one individual was removed from an unidentified site described as a “sand dune in Clark Dry Lake” approximately seven miles northeast of Borrego Springs, CA, by archeologist William Wallace. No known individual was identified. No associated funerary objects are present. The age of the human remains is unknown.

On March 5, 1955, human bones representing, at minimum, two individuals were removed from an unidentified site described as a “sand dune in Clark Dry Lake” in Anza Borrego Desert State Park by Ben McCown. No known individual was identified. The 181 associated funerary objects are 1 lot of burnt shell beads; 1 granite mano fragment; 2 fragments of obsidian shatter; 4 wonderstone flakes; 1 wonderstone cottonwood triangular projectile point; 3 faunal bones; 1 lot of burnt faunal bone; and 168 potsherds. The age of the human remains is unknown; however, the cottonwood triangular projectile suggests a date for both the remains and associated funerary objects in the “Late Period.”

In 1975 and 1978, human remains representing, at minimum, one individual were removed from site CA-SD-98 in the Borrego Palm Canyon area of Anza Borrego Desert State Park by archeologist William Seidel. No known individual was identified. The 33 associated funerary objects are 2 lots of faunal bones; 8 soil samples; 1 lot of Olivella biplicata rough disk shell beads; 2 lots of various shell fragments; 3 ceramic pipe fragments; 1 polished bone fragment; 1 rusted square nail; 2 rusted iron fragments; 1 sample of organic matter; 5 projectile points or fragmentary projectile points; 1 lot of obsidian flakes; 1 lot of wonderstone flakes; 1 lot of quartz flakes; 1 lot of quartzite flakes; 1 lot of sherds representing a painted pottery scoop of Tumco Buffware; 1 lot of sherds of pottery with an undetermined ware; and 1 lot of Brownware pottery sherds.

The human remains and associated funerary objects listed above were stored at facilities within the Colorado Desert District of the California Department of Parks and Recreation until an inventory effort was begun in 2004. Since then, the remains have been stored at the Bigole Archaeological Research Center (BARC-2) in Borrego Springs, CA.

Determinations made by the California Department of Parks and Recreation

Officials of the California Department of Parks and Recreation have determined that:

• Pursuant to 25 U.S.C. 3001(9), the human remains described in this notice represent the physical remains of fifteen individuals of Native American ancestry.

• Pursuant to 25 U.S.C. 3001(3)(A), the 254 associated funerary objects are reasonably believed to have been placed with or near individual human remains at the time of death or later as part of the death rite or ceremony.

• Pursuant to 25 U.S.C. 3001(2), there is a relationship of shared group identity that can be reasonably traced between the Native American human remains and The Tribes.

Additional Requestors and Disposition

Representatives of any Indian tribe that believes itself to be culturally affiliated with the human remains should contact Rebecca Carruthers, NAGPRA Coordinator, California Department of Parks and Recreation, 1416 9th Street, Room 902, telephone (916) 653-8893, before May 2, 2012. Repatriation of the human remains to The Tribes may proceed after that date if no additional claimants come forward.

The California Department of Parks and Recreation is responsible for notifying The Tribes that this notice has been published.

Dated: March 28, 2012.
Sherry Hutt,
Manager, National NAGPRA Program.

[FR Doc. 2012-7890 Filed 3-30-12; 8:45 am]

BILLING CODE 4312-50-P